DEPARTMENT OF JUSTICE

Notice of Lodging of Proposed Consent Decree Under the Comprehensive Environmental Response, Compensation, and Liability Act

On December 16, 2022, the Department of Justice lodged a proposed Consent Decree with the United States District Court for the District of New Jersey in United States v. Alden Leeds, Inc., et al., Civil Action No. 2:22-cv-07326. The proposed Consent Decree resolves the United States' claim against 85 defendants under section 107(a) of the Comprehensive Environmental Response, Compensation, and Liability Act of 1980 (“CERCLA”), 42 U.S.C. 9607(a), relating to Operable Unit 2 and Operable Unit 4 of the Diamond Alkali Superfund Site (“Site”) in New Jersey.

In the proposed Consent Decree, the 85 Settling Defendants agree to pay $150 million in cleanup costs. EPA Region 2's estimated future cleanup costs for Operable Unit 2 and Operable Unit 4 of the Site are $1.82 billion. EPA sponsored an allocation process, which involved hiring a third party neutral to perform an allocation. The process concluded in December 2020 with a Final Allocation Recommendation Report that recommends relative shares of responsibility for each allocation party's facility or facilities evaluated in the allocation. After review of the Final Allocation Recommendation Report, EPA identified the parties who were eligible to participate in the proposed Consent Decree. Based on the results of the allocation, the United States concluded that the Settling Defendants, individually and collectively, are responsible for a minor share of the response costs incurred and to be incurred at or in connection with the cleanup of Operable Unit 2 and Operable Unit 4, for releases from the facilities identified in the proposed Consent Decree. Certain Settling Defendants had previously resolved their liability for Operable Unit 2, and so were not evaluated in the allocation, but are participating in the proposed Consent Decree in order to resolve their liability for Operable Unit 4. The Consent Decree includes covenants not to sue related to Operable Unit 2 and Operable Unit 4 under sections 106 and 107(a) of CERCLA, as well as contribution protection under section 113 of CERCLA. The consent decree does not include reopeners for previously unknown conditions or information, or for cost overruns, but the settlement amount collectively paid by the Setting Defendants protects against the risk that future costs will exceed EPA's estimate of the future cleanup costs for Operable Unit 2 and Operable Unit 4.

On December 22, 2022, the Department of Justice published a notice in the Federal Register opening a public comment period on the consent decree for a period of forty-five (45) days. 87 FR 78711. By this notice, the Department of Justice is extending the public comment by an additional forty-five (45) days, through March 22, 2023. Comments should be addressed to the Assistant Attorney General, Environment and Natural Resources Division, and should refer to United States v. Alden Leeds, Inc., et al., Civil Action No. 2:22-cv-07326, D.J. Ref. No. 90-11-3-07683/1. All comments must be submitted no later than March 22, 2023. Comments may be submitted either by email or by mail:

To submit comments: | Send them to:
By email | pubcomment-ees.enrd@usdoj.gov.
By mail | Assistant Attorney General, U.S. DOJ—ENRD, P.O. Box 7611,Washington, DC 20044-7611.

During the public comment period, the proposed Consent Decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $36.25 (25 cents per page reproduction cost) payable to the United States Treasury. In addition, the Final Allocation Recommendation Report may be examined at this EPA website: https://semspub.epa.gov/src/collection/02/SC41378.

Henry S. Friedman,
Assistant Section Chief, Environmental Enforcement Section, Environment and Natural Resources Division.

[FR Doc. 2023-00530 Filed 1-11-23; 8:45 am]

BILLING CODE 4410-CW-P